DEPARTMENT OF DEFENSE

Office of the Secretary

Reserve Forces Policy Board; Notice of Federal Advisory Committee Meeting

AGENCY: Under Secretary of Defense for Personnel and Readiness, Department of Defense (DoD).

ACTION: Notice of Federal advisory committee meeting.

SUMMARY: The DoD is publishing this notice to announce the following Federal Advisory Committee meeting of the Reserve Forces Policy Board (RFPB) will occur.

DATES: The RFPB will hold an open to the public meeting on Wednesday, June 5, 2024 from 12:30 p.m. to 3:30 p.m.

ADDRESSES: The in-person meeting will be held at the RFPB office located at 5109 Leesburg Pike, Suite 501, Falls Church, Virginia 22041. The meeting will also be held via videoconference. Participant access information will be provided after registering. Pre-meeting registration is required. See guidance in SUPPLEMENTARY INFORMATION, “Meeting Accessibility.”

FOR FURTHER INFORMATION CONTACT: Eric Flowers, Designated Federal Officer (DFO) at eric.p.flowers2.civ@mail.mil or 703-697-1795. The mailing address is Reserve Forces Policy Board, 5109 Leesburg Pike, Suite 501, Falls Church, Virginia 22041. The most up-to-date changes to the meeting agenda can be found on the website: https://rfpb.defense.gov/.

SUPPLEMENTARY INFORMATION: Due to circumstances beyond the control of the Department of Defense, the Reserve Forces Policy Board was unable to provide public notification required by 41 CFR 102-3.150(a) concerning its June 5, 2024 meeting. Accordingly, the Advisory Committee Management Officer for the Department of Defense, pursuant to 41 CFR 102-3.150(b), waives the 15-calendar day notification requirement.

This meeting is being held under the provisions of chapter 10 of title 5, United States Code (U.S.C.) (commonly known as the “Federal Advisory Committee Act” or “FACA”), 5 U.S.C. 552b (commonly known as the “Government in the Sunshine Act”), and title 41, Code of Federal Regulations, section 102-3.140 and section 102-3.155. Purpose of the Meeting: The purpose of the meeting is to obtain, review, and evaluate relevant information related to strategies, policies, and practices designed to improve and enhance the capabilities, efficiency, effectiveness, and accessibility of the Reserve Component (RC).

Agenda: The RFPB will hold an open meeting to the public from 12:30 p.m. to 3:30 p.m. on Wednesday, June 5, 2024. The RFPB will begin the meeting at 12:30 p.m. with opening remarks by Mr. Eric Flowers, the DFO and Major General John Hashem, United States Army, the RFPB's Military Executive and the RFPB Chairperson, the Honorable Lisa Disbrow. After the introductory remarks, the RFPB will receive briefings from two of its subcommittees, starting at 12:40 p.m. The Reserve Components' Role in Homeland Defense and Support to Civil Authorities subcommittee will provide a five-minute update on the previously approved subcommittee's draft report on RC support to Homeland Defense and building resilience of the Defense Critical Infrastructure. The Total Force Integration subcommittee will follow with a five-minute recap of the subcommittee's deliberation and actions during the morning session. After the subcommittee reports, at approximately 1:00 p.m., participants will participate in an hour-long panel discussion featuring Lieutenant General Jon Jensen, Director of the Army National Guard and Mr. Scott Fuller, Deputy Chief of the Navy Reserve. The two speakers will facilitate an interactive session that shares “lessons learned” and “potential way ahead” from a Reserve Component Chief's perspective. The session serves as a forum to identify opportunities and challenges tied to the RC's integrated efforts to execute the National Defense Strategy. After the panel discussion, participants will conduct a 15-minute break from 2:00 p.m. to 2:15 p.m. At approximately 2:15 p.m., Brigadier General Nathan D. Yates, United States Space Force, will present an hour-long information brief on the status of the United States Space Force's implementation of the single component concept approved in the Defense Officer Personnel Management Act (Pub. L. 96-513). At the conclusion of the Space Force brief, at approximately 3:15 p.m. the Honorable Disbrow will offer closing remarks and adjourn the meeting at approximately 3:30 p.m.

Meeting Accessibility: Pursuant to 5 U.S.C. 552b and 41 CFR 102-3.140 through 102-3.150, and subject to the availability of space, this meeting is open to the public from 12:30 p.m. to 3:30 p.m. on June 5, 2024. The meeting will be held in-person and via videoconference. The number of participants for the in-person session and videoconference is limited and is on a first-come basis. All members of the public who wish to attend the in-person session or participate in the videoconference must register by contacting the RFPB DFO, Eric Flowers, at eric.p.flowers2.civ@mail.mil or, osd.pentagon.ousd-p-r.mbx.rfpb@mail.mil or, (703) 697-1795 no later than Monday, June 3, 2024 (by 5:00 p.m. Eastern Standard Time). Individuals that may require physical meeting or electronic meeting accommodations should submit their request to the RFPB DFO, Eric Flowers, at eric.p.flowers2.civ@mail.mil or, osd.pentagon.ousd-p-r.mbx.rfpb@mail.mil or, (703) 697-1795. Once registered, the web address and audio number will be provided to those members of the public planning to participate in the videoconference. For those members of the public who successfully register for the in-person session, the meeting will be held in the RFPB large conference room at the RFPB office. The RFPB office is located on the 5th floor, in suite 501 in the Skyline 6 office building located at 5109 Leesburg Pike, Falls Church, Virginia. Instructions for on-site parking will be provided after a member of the public successfully registers with the DFO to attend the in-person session.

Written Statements: Pursuant to 41 CFR 102-3.105(j) and section 10(a)(3) of the FACA, the public and interested parties may submit written statements to the RFPB at any time about its approved agenda or at any time on the RFPB's mission. Written statements should be submitted to the RFPB's DFO at the address or email listed in the FOR FURTHER INFORMATION CONTACT section. If statements pertain to a specific topic being discussed at the planned meeting, then these statements must be submitted no later than one (1) business day prior to the scheduled meeting date. Written statements received after this date may not be provided to or considered by the RFPB until its next scheduled meeting. The DFO will review all timely submitted written statements and provide copies to all the committee members before the meeting that is the subject of this notice. Please note that all submitted comments and public presentations will be treated as public documents and will be made available for public inspection, in accordance with the provisions outlined in the Freedom of Information Act, including, but not limited to, being posted on the RFPB's website.

Dated: May 22, 2024.
Aaron T. Siegel,
Alternate OSD Federal Register Liaison Officer, Department of Defense.

[FR Doc. 2024-11638 Filed 5-24-24; 8:45 am]

BILLING CODE 6001-FR-P